FEDERAL COMMUNICATIONS COMMISSION

47 CFR Part 36

[CC Docket Nos. 78-72, 80-286; DA 01-2427]

MTS and WATS Market Structure and Establishment of a Joint Board

AGENCY: Federal Communications Commission.

ACTION: Final rule.

SUMMARY: In this document, the Office of the Managing Director (Managing Director) grants the petition of US West Communications, Inc. (U.S. West) and makes technical revisions to the Commission's jurisdictional separations rules. Specifically, the Managing Director amends the Commission's rules to correct misspellings and to remove certain text inadvertently added to a rule section upon original publication in the Code of Federal Regulations.

DATES: Effective May 9, 2002.

FOR FURTHER INFORMATION CONTACT: Andrew Firth, Attorney, Common Carrier Bureau, Accounting Policy Division, (202) 418-2694.

SUPPLEMENTARY INFORMATION: This is a summary of the Managing Director's Order in CC Docket Nos. 78-72 and 80-286, adopted on October 17, 2001 and released on October 18, 2001. The full text of this document is available for public inspection during regular business hours in the FCC Reference Center, Room CY-A257, 445 Twelfth Street, SW., Washington, DC, 20554.

1. In this Order, pursuant to authority delegated to the Managing Director at § 0.231(b) of the Commission's rules, we make certain technical and non-substantive corrections to the Commission's part 36 jurisdictional separations rules to reflect a printing error brought to our attention by US West Communications, Inc. (U.S. West) in a Petition for Technical Corrections. In its Petition, U.S. West notes that the Commission's 1989 Decision and Order in this docket (MTS and WATS Market Structure, Amendment of Part 36 of the Commission's Rules and Establishment of a Joint Board, Decision and Order, CC Docket Nos. 78-72 and 80-286, 4 FCC Rcd. 5660), 54 FR 31032 (July 26, 1989), revised the description of Subcategory 1.1 of Category 1 Exchange Line Cable and Wire Facilities.

2. US West notes that, when the revised rule as stated above was published in the Federal Register and adopted into the Code of Federal Regulations at 47 CFR 36.154(a), the word “carrying” was misspelled as “carring” and certain text was inadvertently added to the section.

3. Pursuant to the procedure set forth in § 0.231(b) of the Commission's rules, the Commission's Common Carrier Bureau (Bureau) has reviewed the US West petition. As the Commission has not adopted any modification to the rule that originally appeared in the 1989 Decision and Order, the Bureau agrees with US West that technical correction of 47 CFR 36.154(a) is appropriate and has approved this correction. We therefore direct that the current language found in the Code of Federal Regulations at 47 CFR 36.154(a) be amended to reflect exactly the original language in the 1989 Decision and Order. Because the amendment we are making is merely a technical correction that does not alter the substance of the rule, we find, for good cause, that notice and comment under the Administrative Procedure Act is not necessary.

Ordering Clause

4. Pursuant to sections 1-2, 4, 201-205, 215, 218, 220, 229, 254 and 410 of the Communications Act of 1934, as amended, 47 U.S.C. 151, 152, 154, 201-205, 215, 218, 220, 229, 254, and 410, the Administrative Procedure Act, 5 U.S.C. 533(b)(3)(B), and pursuant to authority delegated to the Managing Director at section 0.231(b) of the Commission's rules, 47 CFR 0.231(b), that the Petition for Technical Corrections filed by US West, Communications Inc. on February 16, 2000, is granted.

5. The non-substantive technical correction to the Code of Federal Regulations, specifically at 47 CFR 36.154(a), as outlined in the Rule Changes, is adopted.

List of CFR Subjects 47 CFR Part 36

Communications common carriers, Reporting and recordkeeping requirements, Telephone, Uniform System of Accounts.

Federal Communications Commission.
Katherine L. Schroder,
Division Chief, Telecommunications Access Policy Division, Wireline Competition Bureau.

Rule Changes

For the reasons discussed in the preamble, the Federal Communications Commission amends part 36 of title 47 of the Code of Federal Regulations as follows:

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

Subpart B—Telecommunications Property

1. The authority citation for part 36 continues to read:

Authority: 47 U.S.C. Secs. 151, 154 (i) and (j), 205, 221 (c), 254, 403 and 410.

2. In § 36.154(a), Subcategory 1.1 is revised to read as follows:

§ 36.154. Exchange Line Cable and Wire Facilities (C&WF)—Category 1—Apportionment Procedures.

(a) * * *

Subcategory 1.1—State Private Lines and State WATS Lines. This subcategory shall include all private lines and WATS lines carrying exclusively state traffic as well as private lines and WATS lines carrying both state and interstate traffic if the interstate traffic on the line involved constitutes ten percent or less of the total traffic on the line.

* * * * *

[FR Doc. 02-8498 Filed 4-8-02; 8:45 am]

BILLING CODE 6712-01-P